DEPARTMENT OF ENERGY

Federal Energy Regulatory Commission

Combined Notice of Filings # 1

April 10, 2007.

Take notice that the Commission received the following exempt wholesale generator filings:

Docket Numbers: EG07-45-000.

Applicants: Glacial Ridge Wind Power, LLC.

Description: Glacial Ridge Wind Power, LLC submits an Notice of Exempt Wholesale Status filing.

Filed Date: 04/04/2007.

Accession Number: 20070404-5058.

Comment Date: 5 p.m. Eastern Time on Wednesday, April 25, 2007.

Take notice that the Commission received the following electric rate filings:

Docket Numbers: ER94-389-026; ER02-2509-005; ER00-840-006; ER01-137-004; ER98-1767-009; ER99-2992-006; ER99-3165-006; ER02-1942-005; ER01-596-004; ER01-2690-008; ER02-77-008; ER00-1780-006; ER99-415-013; ER01-389-006; ER01-2641-010; ER01-558-009; ER01-557-009; ER01-560-009; ER01-559-009; ER02-24-008; ER02-26-007; ER02-25-007.

Applicants: Tenaska Power Services Co.; Kiowa Power Partners, LLC; Tenaska Alabama Partners, L.P.; Tenaska Alabama II Partners, L.P.; Tenaska Frontier Parnters, Ltd.; Tenaska Gateway Partners, Ltd.; Tenaska Georgia Partners, L.P.; Alabama Electric Marketing, LLC; California Electric Marketing, LLC; New Mexico Electric Marketing, LLC; Texas Electric Marketing, LLC; Commonwealth Chesapeake Company, LLC; Calumet Energy Team, LLC; High Desert Power Project, LLC; Holland Energy, LLC; University Park Energy, LLC; Big Sandy Peaker Plant, LLC; Wolf Hills Energy, LLC; Armstrong Energy Limited Partnership, LLP; Pleasants Energy, LLC; Troy Energy, LLC.

Description: Tenaska Power Services Co., Kiowa Power Partners, et al. submit a notice of change in status.

Filed Date: 04/04/2007.

Accession Number: 20070409-0096.

Comment Date: 5 p.m. Eastern Time on Wednesday, April 25, 2007.

Docket Numbers: ER98-411-014.

Applicants: Wolverine Power Supply Cooperative, Inc.

Description: Wolverine Power Supply Cooperative, Inc. submits an amendment to Tariff Revisions in the 2/26/07 Triennial Market Power Analysis Update.

Filed Date: 03/08/2007.

Accession Number: 20070314-0294.

Comment Date: 5 p.m. Eastern Time on Tuesday, April 17, 2007.

Docket Numbers: ER04-157-019; ER04-714-009.

Applicants: Fitchburg Gas & Electric Light Company.

Description: Refund Report of Fitchburg Gas & Electric Light Company.

Filed Date: 04/09/2007.

Accession Number: 20070409-5041.

Comment Date: 5 p.m. Eastern Time on Monday, April 30, 2007.

Docket Number: ER05-463-004.

Applicants: Mendota Hills, LLC.

Description: Notice of Non-Material Change in Status of Mendota Hills, LLC.

Filed Date: 04/09/2007.

Accession Number: 20070409-5033.

Comment Date: 5 p.m. Eastern Time on Monday, April 30, 2007.

Docket Numbers: ER06-451-021; ER06-1467-003.

Applicants: Southwest Power Pool, Inc.

Description: Southwest Power Pool Inc. submits its compliance filing containing its entire currently Open Access Transmission Tariff, to become effective 2/1/07.

Filed Date: 04/02/2007.

Accession Number: 20070406-0127.

Comment Date: 5 p.m. Eastern Time on Monday, April 23, 2007.

Docket Numbers: ER06-1420-003.

Applicants: Midwest Independent Transmission System Operator, Inc.

Description: Midwest Independent Transmission System Operator, Inc.'s response to FERC's 3/6/07 letter order seeking additional information with respect to transmission and deliverability studies, etc.

Filed Date: 04/05/2007.

Accession Number: 20070410-0187.

Comment Date: 5 p.m. Eastern Time on Thursday, April 26, 2007.

Docket Numbers: ER07-59-003.

Applicants: Fortis Energy Marketing & Trading GP.

Description: Fortis Energy Marketing and Trading GP submits notice of non-material change in status.

Filed Date: 04/04/2007.

Accession Number: 20070409-0097.

Comment Date: 5 p.m. Eastern Time on Wednesday, April 25, 2007.

Docket Numbers: ER07-232-002.

Applicants: Aragonne Wind LLC.

Description: Notice of Non-Material Change in Status of Aragonne Wind, LLC.

Filed Date: 04/09/2007.

Accession Number: 20070409-5028

Comment Date: 5 p.m. Eastern Time on Monday, April 30, 2007.

Docket Numbers: ER07-374-002.

Applicants: Buena Vista Energy, LLC.

Description: Notice of Non-Material Change in Status of Buena Vista Energy, LLC.

Filed Date: 04/09/2007.

Accession Number: 20070409-5027.

Comment Date: 5 p.m. Eastern Time on Monday, April 30, 2007.

Docket Numbers: ER07-489-002.

Applicants: Arizona Public Service Company.

Description: Arizona Public Service Company submits the Tohono O'Odham Utility Authority EEI Mastor Power Purchase and Sale Agreement under FERC Electric Tariff, Volume 5 to conform to Order 614.

Filed Date: 04/05/2007.

Accession Number: 20070406-0121.

Comment Date: 5 p.m. Eastern Time on Thursday, April 26, 2007.

Docket Numbers: ER07-585-001.

Applicants: Niagara Generation, LLC.

Description: Niagara Generation, LLC submits the revised market-based rate tariff to replace the rate tariff that was filed w/FERC on 3/2/07 in connection with its notice of succession.

Filed Date: 04/04/2007.

Accession Number: 20070409-0099.

Comment Date: 5 p.m. Eastern Time on Wednesday, April 25, 2007.

Docket Numbers: ER07-594-000.

Applicants: Pirin Solutions, Inc.

Description: Pirin Solutions, Inc submits comments re the pending application for market based rate authority etc.

Filed Date: 04/04/2007.

Accession Number: 20070404-5029.

Comment Date: 5 p.m. Eastern Time on Monday, April 16, 2007.

Docket Numbers: ER07-672-000.

Applicants: Central Hudson Gas & Electric Corp.

Description: Central Hudson Gas & Electric Corp submits Substitute Original Service Agreement 922 with City of New York, dated as of 10/31/06.

Filed Date: 03/27/2007.

Accession Number: 20070405-0208.

Comment Date: 5 p.m. Eastern Time on Tuesday, April 17, 2007.

Docket Numbers: ER07-675-000.

Applicants: PJM Interconnection, L.L.C.

Description: PJM Interconnection LLC submits an executed interconnection service agreement among PJM, Allegheny Ridge Wind Farm LLC et al and a notice of cancellation for an interconnection service agreement etc.

Filed Date: 03/29/2007.

Accession Number: 20070402-0038.

Comment Date: 5 p.m. Eastern Time on Thursday, April 19, 2007.

Docket Numbers: ER07-694-000.

Applicants: New England Power Company.

Description: New England Power Co.'s amendments to Integrated Facilities Agreement under Schedule III-B of FERC Electric, Original Volume 1 which provides transmission credits to Narragansett Electric Co.

Filed Date: 03/30/2007.

Accession Number: 20070406-0105.

Comment Date: 5 p.m. Eastern Time on Friday, April 20, 2007.

Docket Numbers: ER07-698-000.

Applicants: Pacific Gas and Electric Company.

Description: Pacific Gas and Electric Company submits a Special Facilities Agreement for the Interconnection of the Trans Bay Project etc between PG&E and Trans Bay Cable LLC.

Filed Date: 04/03/2007.

Accession Number: 20070405-0209.

Comment Date: 5 p.m. Eastern Time on Tuesday, April 24, 2007.

Docket Numbers: ER07-711-000.

Applicants: Cleco Power LLC.

Description: Cleco Power, LLC submits revisions to its Open Access Transmission Tariff to adopt the North American Electric Reliability Council transmission line loading relief pursuant to FERC's 11/30/06 Order.

Filed Date: 04/04/2007.

Accession Number: 20070409-0098.

Comment Date: 5 p.m. Eastern Time on Wednesday, April 25, 2007.

Docket Numbers: ER07-712-000.

Applicants: Entegra North America, L.P.

Description: Entegra North America seeks to cancel its FERC Electric Tariff, Rate Schedule 1 including authority to sell electricity at market based rates etc.

Filed Date: 04/04/2007.

Accession Number: 20070405-0216.

Comment Date: 5 p.m. Eastern Time on Wednesday, April 25, 2007.

Docket Numbers: ER07-713-000.

Applicants: Florida Power & Light Company.

Description: Florida Power & Light Company submits Second Revised Sheet 505 of its Open Access Transmission Tariff etc.

Filed Date: 04/05/2007.

Accession Number: 20070406-0120.

Comment Date: 5 p.m. Eastern Time on Thursday, April 26, 2007.

Docket Numbers: ER07-715-000.

Applicants: Arizona Public Service Company.

Description: Arizona Public Service Company submits a Letter of Clarification regarding certain terms and conditions of two agreements entered into with PacifiCorp.

Filed Date: 04/05/2007.

Accession Number: 20070410-0162.

Comment Date: 5 p.m. Eastern Time on Thursday, April 26, 2007.

Docket Numbers: ER07-716-000.

Applicants: Mid Continent Area Power Pool.

Description: Mid-Continent Area Power Pool submits notice that MAPP Schedule F adopts the NERC's revised TLR procedures pursuant to FERC's 11/30/06 Order.

Filed Date: 04/05/2007.

Accession Number: 20070410-0168.

Comment Date: 5 p.m. Eastern Time on Thursday, April 26, 2007.

Docket Numbers: ER07-720-000.

Applicants: New York Independent System Operator, Inc.

Description: New York Independent System Operator, Inc submits revisions to its Market Administration and Control Area Services Tariff and its OATT and on 4/6/07 submit an affidavit with an original signature.

Filed Date: 04/05/2007; 04/06/2007.

Accession Number: 20070410-0167.

Comment Date: 5 p.m. Eastern Time on Thursday, April 26, 2007.

Take notice that the Commission received the following electric securities filings:

Docket Numbers: ES07-30-000.

Applicants: MidAmerican Energy Company.

Description: Application of MidAmerican Energy Co for Authorization to Issue and Sell up to $750 Million of Bonds, Notes, Debentures, Guarantees or Other Evidences, of Long-Term Indebtedness.

Filed Date: 04/06/2007.

Accession Number: 20070406-5060.

Comment Date: 5 p.m. Eastern Time on Friday, April 27, 2007.

Take notice that the Commission received the following foreign utility company status filings:

Docket Numbers: FC07-30-000.

Applicants: Calpine Power L.P., Calpine Island Cogeneration Limited Partnership.

Description: Self-Certification of Foreign Utility Company Status of Calpine Power L.P. and Calpine Island Cogeneration Limited Partnership.

Filed Date: 04/05/2007.

Accession Number: 20070405-5026.

Comment Date: 5 p.m. Eastern Time on Thursday, April 26, 2007.

Docket Numbers: FC07-31-000.

Applicants: Marianas Energy Company, LLC.

Description: Marianas Energy Company, LLC an indirect subsidiary of Osaka Gas Energy America Corporation submits notification of self-certification of foreign utility company status.

Filed Date: 04/06/2007.

Accession Number: 20070410-0161.

Comment Date: 5 p.m. Eastern Time on Friday, April 27, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E7-7113 Filed 4-13-07; 8:45 am]

BILLING CODE 6717-01-P